OFFICE OF THE UNITED STATES TRADE REPRESENTATIVE

Reallocation of Unused Fiscal Year 2016 Tariff-Rate Quota Volume for Raw Cane Sugar

AGENCY: Office of the United States Trade Representative.

ACTION: Notice.

SUMMARY: The Office of the United States Trade Representative (USTR) is providing notice of country-by-country reallocations of the fiscal year (FY) 2016 in-quota quantity of the World Trade Organization (WTO) tariff-rate quota (TRQ) for imported raw cane sugar.

DATES: Effective: March 8, 2016.

ADDRESSES: Inquiries may be mailed or delivered to Ronald Baumgarten, Director of Agricultural Affairs, Office of Agricultural Affairs, Office of the United States Trade Representative, 600 17th Street NW., Washington, DC 20508.

FOR FURTHER INFORMATION CONTACT: Ronald Baumgarten, Office of the United States Trade Representative, Office of Agricultural Affairs, telephone: 202-395-9583 or facsimile: 202-395-4579.

SUPPLEMENTARY INFORMATION: Pursuant to Additional U.S. Note 5 to Chapter 17 of the Harmonized Tariff Schedule of the United States (HTS), the United States maintains WTO TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On June 15, 2015, the Secretary of Agriculture established the FY 2016 TRQ for imported raw cane sugar at the minimum to which the United States is committed pursuant to the World Trade Organization (WTO) Uruguay Round Agreements (1,117,195 metric tons raw value (MTRV)). On July 15, 2015, USTR provided notice of country-by-country allocations of the FY 2016 in-quota quantity of the WTO TRQ for imported raw cane sugar. Based on consultation with quota holders, USTR has determined to reallocate 86,533 MTRV of the original TRQ quantity from those countries that are unable to fill their FY 2016 allocated raw cane sugar quantities. USTR is allocating the 86,533 MTRV to the following countries in the amounts specified below:

Country | FY 2016 reallocation
Argentina | 3,884
Australia | 7,497
Belize | 994
Brazil | 13,097
Colombia | 2,168
Costa Rica | 1,355
Dominican Republic | 15,897
Ecuador | 994
El Salvador | 2,348
Fiji | 813
Guatemala | 4,336
Guyana | 1,084
Honduras | 903
India | 723
Jamaica | 994
Malawi | 903
Mauritius | 1,084
Mozambique | 1,174
Nicaragua | 1,897
Panama | 2,619
Peru | 3,703
Philippines | 12,194
South Africa | 2,078
Swaziland | 1,445
Thailand | 1,265
Zimbabwe | 1,084

These allocations are based on the countries' historical shipments to the United States. The allocations of the raw cane sugar WTO TRQ to countries that are net importers of sugar are conditioned on receipt of the appropriate verifications of origin. Certificates for quota eligibility must accompany imports from any country for which an allocation has been provided.

Conversion factor: 1 metric ton = 1.10231125 short tons.

Michael Froman,
United States Trade Representative.

[FR Doc. 2016-05203 Filed 3-7-16; 8:45 am]

BILLING CODE 3290-F6-P